DEPARTMENT OF ENERGY

Energy Information Administration

Proposed Agency Information Collection

AGENCY: U.S. Energy Information Administration (EIA), Department of Energy (DOE).

ACTION: Notice and request for comments.

SUMMARY: EIA requests a three-year extension, with changes, to the Oil and Gas Reserves System Survey Program as required by the Paperwork Reduction Act of 1995. This survey system includes: Form EIA-64A, Annual Report of the Origin of Natural Gas Liquids Production; Form EIA-23L, Annual Report of Domestic Oil and Gas Reserves, County Level Report; and Form EIA-23S, Annual Survey of Domestic Oil and Gas Reserves, Summary Level Report.

DATES: EIA must receive all comments on this proposed information collection no later than October 9, 2018. If you anticipate difficulties in submitting your comments by the deadline, contact the person listed in the below ADDRESSES section of this notice as soon as possible.

ADDRESSES: Send your comments to Steven Grape, U.S. Energy Information Administration, 1000 Independence Avenue SW, EI-24 Washington, DC 20585.

FOR FURTHER INFORMATION CONTACT: Requests for additional information or copies of the information collection instrument and instructions should be directed to Steven Grape, telephone 202-586-1868, fax at (202) 586-4420, or by email at steven.grape@eia.gov.

SUPPLEMENTARY INFORMATION: This information collection request contains:

(1) OMB No. 1905-0057;

(2) Information Collection Request Title: Oil and Gas Reserves System;

(3) Type of Request: Renewal with changes;

(4) Purpose: Information reported on Form EIA-23L is used to provide national and regional estimates on the proved reserves of crude oil, natural gas, and natural gas liquids. Data collected on this form include proved reserves and production for crude oil, lease condensate, and natural gas by state and federal offshore regions. Information reported on Form EIA-64A is used to generate EIA's state-level and federal offshore estimates of dry natural gas reserves and production (natural gas that remains after natural gas liquids are extracted). EIA releases annual reserves and production estimates through its website. These data are also used in EIA reports concerning U.S. crude oil, natural gas, and natural gas liquids reserves, and are incorporated in a number of other reports and analyses such as EIA's Annual Energy Review, Annual Energy Outlook, Petroleum Supply Annual, and Natural Gas Annual.

Congress and other federal agencies rely on the objective analysis, quality, reliability, and usefulness of EIA's crude oil and natural gas reserves estimates. These federal agencies include: The U.S. Department of Energy; Bureau of Ocean Energy Management, Department of Interior; Internal Revenue Service, Department of the Treasury; and the Securities and Exchange Commission. Each federal agency uses EIA's estimates on proved reserves for their official use to meet their data needs. EIA's published estimates on proved reserves of domestic crude oil and natural gas are essential to the development, implementation, and evaluation of energy policy and legislation. There are no proposed changes to Forms EIA-23L and EIA-23S.

(4a) Proposed Changes to Information Collection: EIA proposes to collect the following additional information on Form EIA-64A, Annual Report of the Origin of Natural Gas Liquids Production:

• Section 2. Add Item 2.1 to collect the total outlet volume of residue natural gas produced and add Item 2.3 to collect the volume of residue natural gas sent to a pipeline. Add Item 2.4: The amount of electricity consumed annually at the natural gas plant. The number of natural gas processing plants that are 100% electrically-powered is increasing. Federal air quality restrictions imposed on sources of combustion emissions is one reason for the increasing trend in using electricity as a power source rather than relying on natural gas as a fuel for processing and other plant operations.

• Section 3.0, Add Item 3.1C: The annual total of natural gas liquids (NGL) reported separately by components or products produced at the natural gas processing plant by Area of Origin in Section 3 of Form EIA-64A. Currently, only the total plant NGL volume shown on Line 4.8 is reported by Area of Origin.

• Delete the data element Gas Shrinkage Resulting from Natural Gas Liquids Extracted currently shown as Item 5.0 on Form EIA-64A. Respondents currently report their estimate of the volumes of gas shrinkage in millions of cubic feet (MMCF) caused from the removal of natural gas liquids from the natural gas received at the plant. Respondents will no longer need to report this information. The shrinkage volumes for a respondent will be calculated by EIA using the component data reported in Section 3.

• The burden per response for Form EIA-64A changed from 6 hours to 4 hours. Cognitive research showed that the weighted average time estimate to gather and report information on the proposed modified new Form EIA-64A was less than 3 hours. The majority of the information reported on this form is information that companies customarily track in the normal course of their business activities. Some companies may take longer than 3 hours to complete Form EIA-64A so EIA extended the burden per response estimate to 4 hours to account for some companies that may require additional time.

The mode of reporting information will also change. Operators will be required to log in to the EIA Data xChange Portal to report their information and submit Form EIA-64A. By identifying and selecting each plant within the portal, respondent information will be populated automatically in order to reduce reporting burden.

(5) Annual Estimated Number of Respondents: 1,644;

(6) Annual Estimated Number of Total Responses: 1,644;

(7) Annual Estimated Number of Burden Hours: 29,252;

(8) Annual Estimated Reporting and Recordkeeping Cost Burden: EIA estimates that there are no capital and start-up costs associated with this data collection. The information is maintained in the normal course of business. The cost of burden hours is estimated to be $2,214,084 (29,252 burden hours times $75.69 per hour). Therefore, other than the cost of burden hours, EIA estimates that there are no additional costs for generating, maintaining and providing the information.

Comments are invited on these proposed changes and: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Statutory Authority: 15 U.S.C. 772(b), 15 U.S.C. 790(a), and the DOE Organization Act of 1977, 42 U.S.C. 7101 et seq.

Issued in Washington, DC, August 6, 2018.
Nanda Srinivasan,
Director, Office of Survey Development and Statistical Integration, U.S. Energy Information Administration.

[FR Doc. 2018-17183 Filed 8-9-18; 8:45 am]

BILLING CODE 6450-01-P